DEPARTMENT OF COMMERCE

National Oceanic and Atmospheric Administration

[RTID 0648-XE868]

Marine Mammals; File No. 28931

AGENCY: National Marine Fisheries Service (NMFS), National Oceanic and Atmospheric Administration (NOAA), Commerce.

ACTION: Notice; receipt of application.

SUMMARY: Notice is hereby given that Passion Planet, 33-34 Rathbone Place, London, W1T 1JN, United Kingdom (Responsible Party: Phillippa Tagg), has applied in due form for a permit to conduct commercial and educational photography on marine mammals.

DATES: Written comments must be received on or before June 23, 2025.

ADDRESSES: These documents are available upon written request via email to NMFS.Pr1Comments@noaa.gov.

Written comments on this application should be submitted via email to NMFS.Pr1Comments@noaa.gov. Please include File No. 28931 in the subject line of the email comment.

Those individuals requesting a public hearing should submit a written request via email to NMFS.Pr1Comments@noaa.gov. The request should set forth the specific reasons why a hearing on this application would be appropriate.

FOR FURTHER INFORMATION CONTACT: Amy Hapeman, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film marine mammals feeding on menhaden in the New York Bight for a 3-part documentary series. Filmmakers would observe and collect footage of up to 93 humpback whales (Megaptera novaeangliae); 1,289 short-beaked common dolphins (Delphinus delphis); 129 bottlenose dolphins (Tursiops truncatus), 821 Risso's dolphins (Grampus griseus); and 68 gray seals (Halichoerus grypus) annually from a vessel, underwater with a pole cam, and via an unmanned aircraft system. The permit is requested for 2 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 19, 2025.
Shannon Bettridge,
Chief, Marine Mammal and Sea Turtle Conservation Division, Office of Protected Resources, National Marine Fisheries Service.

[FR Doc. 2025-09296 Filed 5-22-25; 8:45 am]

BILLING CODE 3510-22-P